DEPARTMENT OF HEALTH AND HUMAN SERVICES

Administration for Children and Families

Submission for OMB Review; Comment Request

Title: Income Withholding for Support (IWO).

OMB No.: 0970-0154.

Description

Use of the OMB-approved Income Withholding for Support form falls under the authority of section 466 of the Act, 42 U.S.C. 666. Section 466(b)(6)(A)(ii) of the Act requires that the notice given to the employer for income withholding in IV-D cases shall be in a standard format prescribed by the Secretary, and contain only such information as may be necessary for the employer to comply with the withholding order for all IV-D cases. Section 466(a)(8)(B)(iii) of the Act requires that section 466(b)(6)(A)(ii) of the Act be applicable also to non-IV-D income withholding orders. These provisions clearly require all individuals and entities to use a form developed by the Secretary of HHS to notify employers of the income withholding order for child support in all IV-D and non-IV-D cases.

OCSE requires States' automated systems to be able to automatically generate and download data to the OMB approved income withholding form. If child support orders are established by the child support agency, necessary information is already contained within the automated system for downloading into income withholding orders. If a court or other tribunal has issued a child support order, then agency staff enter the terms of the order into the automated system for use in issuing income withholding orders. Copies of the income withholding order are made for all necessary parties, and copies are transmitted to the employer/income withholder by mail or through the OCSE electronic income withholding order (e-IWO) portal.

The Income Withholding for Support form and instructions were updated for consistency and clarity in light of numerous comments suggesting changes, based on comments received during the 60-day comment period of the 1st Federal Register Notice publication.

Respondents: State Child Support Agencies and Tribes.

Annual Burden Estimates
Instrument | Number of respondents | Number of responses per respondent | Average burden hours per response | Total burden hours
Income Withholding for Support (Form) | 58 | 0 | 0 | 0
e-IWO Record Layouts | 58 | 0 | 0 | 0

Estimated Total Annual Burden Hours: 0.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register.

Therefore, a comment is best assured of having its full effect if OMB receives it within 30 days of publication. Written comments and recommendations for the proposed information collection should be sent directly to the following: Office of Management and Budget, Paperwork Reduction Project. Fax: 202-395-7285. E-mail: OIRA_SUBMISSION@OMB.EOP.GOV. Attn: Desk Officer for the Administration for Children and Families.

Robert Sargis,
Reports Clearance Officer.

[FR Doc. 2010-28615 Filed 11-12-10; 8:45 am]

BILLING CODE 4184-01-P